DEPARTMENT OF TRANSPORTATION

Federal Aviation Administration

14 CFR Part 39

[Docket No. FAA-2009-0309; Directorate Identifier 2008-NM-173-AD]

RIN 2120-AA64

Airworthiness Directives; Airbus Model A330-200, A330-300, A340-200, and A340-300 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Several cases have been reported of in-flight loss of the drive strut fitting from the movable fairing of flap track No. 3. Consequently, the flap track No. 3 fairing was detached from its aft end, and found hanging. Investigations have shown that the detachment of the aft lower drive strut fitting from the fairing occurred due to the four bonded inserts being pulled out.

This condition, if not corrected, could lead to in-flight loss of the affected aircraft parts, potentially resulting in injuries to persons on the ground.

* * * * *

The proposed AD would require actions that are intended to address the unsafe condition described in the MCAI.

DATES: We must receive comments on this proposed AD by May 6, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue SE., Washington, DC, between 9 a.m. and 5 p.m., Monday through Friday, except Federal holidays. For service information identified in this proposed AD, contact Airbus SAS—Airworthiness Office—EAL, 1 Rond Point Maurice Bellonte, 31707 Blagnac Cedex, France; fax +33 5 61 93 45 80, e-mail airworthiness.A330-A340@airbus.com; Internet http://www.airbus.com. You may review copies of the referenced service information at the FAA, Transport Airplane Directorate, 1601 Lind Avenue SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1320.

SUPPLEMENTARY INFORMATION:

Comments Invited

We invite you to send any written relevant data, views, or arguments about this proposed AD. Send your comments to an address listed under the ADDRESSES section. Include “Docket No. FAA-2009-0309; Directorate Identifier 2008-NM-173-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0153, dated August 8, 2008 (referred to after this as “the MCAI”), to correct an unsafe condition for the specified products. The MCAI states:

Several cases have been reported of in-flight loss of the drive strut fitting from the movable fairing of flap track No. 3. Consequently, the flap track No. 3 fairing was detached from its aft end, and found hanging. Investigations have shown that the detachment of the aft lower drive strut fitting from the fairing occurred due to the four bonded inserts being pulled out.

This condition, if not corrected, could lead to in-flight loss of the affected aircraft parts, potentially resulting in injuries to persons on the ground.

For the reason described above, this AD requires the modification of the movable flap track fairing No. 3, both Left Hand (LH) and Right Hand (RH) side, and prohibits re-installation of unmodified units.

You may obtain further information by examining the MCAI in the AD docket.

Relevant Service Information

Airbus has issued Mandatory Service Bulletins A330-57-3095, Revision 02, dated April 3, 2008; and A340-57-4103, Revision 01, dated April 3, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 35 products of U.S. registry. We also estimate that it would take about 19 work-hours per product to comply with the basic requirements of this proposed AD. The average labor rate is $80 per work-hour. Required parts would cost about $647 per product. Where the service information lists required parts costs that are covered under warranty, we have assumed that there will be no charge for these costs. As we do not control warranty coverage for affected parties, some parties may incur costs higher than estimated here. Based on these figures, we estimate the cost of the proposed AD on U.S. operators to be $75,845, or $2,167 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-0309; Directorate Identifier 2008-NM-173-AD.

Comments Due Date

(a) We must receive comments by May 6, 2009.

Affected ADs

(b) None.

Applicability

(c) This AD applies to the airplanes identified in paragraphs (c)(1) and (c)(2) of this AD, certificated in any category.

(1) Airbus Models A330-201, -202, -203, -223, -243, -301, -302, -303, -321, -322, -323, -341, -342, and -343 airplanes, all manufacturer serial numbers (MSN), except those on which Airbus modification 55674 has been embodied in production.

(2) Airbus Model A340-211, -212, -213, -311, -312, and -313 airplanes, all MSN, except those on which Airbus modification 55674 has been embodied in production.

Subject

(d) Air Transport Association (ATA) of America Code 57: Wings.

Reason

(e) The mandatory continuing airworthiness information (MCAI) states:

Several cases have been reported of in-flight loss of the drive strut fitting from the movable fairing of flap track No. 3. Consequently, the flap track No. 3 fairing was detached from its aft end, and found hanging. Investigations have shown that the detachment of the aft lower drive strut fitting from the fairing occurred due to the four bonded inserts being pulled out.

This condition, if not corrected, could lead to in-flight loss of the affected aircraft parts, potentially resulting in injuries to persons on the ground.

For the reason described above, this AD requires the modification of the movable flap track fairing No. 3, both Left Hand (LH) and Right Hand (RH) side, and prohibits re-installation of unmodified units.

Actions and Compliance

(f) Unless already done, do the following actions.

(1) Within 60 months after the effective date of this AD, modify the left- and right-hand movable flap track fairing No. 3, in accordance with Airbus Mandatory Service Bulletin A330-57-3095, Revision 02; or A340-57-4103, Revision 01; both dated April 3, 2008; as applicable.

(2) Modifying the left- and right-hand movable flap track fairing No. 3 is also acceptable for compliance with the requirements of paragraph (f)(1) of this AD if done before the effective date of this AD in accordance with Airbus Mandatory Service Bulletin A330-57-3095, Revision 01; or A340-57-4103; both dated August 28, 2007; as applicable.

(3) Installing a repaired left- and right-hand movable flap track fairing No. 3 using replacement of a damaged insert by through-bolts at the drive strut attachment fitting is acceptable for compliance with the requirements of paragraph (f)(1) of this AD if done before the effective date of this AD in accordance with the repair instructions specified in Chapter 57-56-11, page block 201, in one of the Airbus structural repair manuals listed in Table 1 of this AD, as applicable.

Table 1—Structural Repair Manuals
Document | Revision | Date
Airbus A330 Structural Repair Manual | 60 | October 1, 2008.
Airbus A330 Structural Repair Manual | 61 | January 1, 2009.
Airbus A340-200/-300 Structural Repair Manual | 64 | October 1, 2008.
Airbus A340-200/-300 Structural Repair Manual | 65 | January 1, 2009.

(4) As of the effective date of this AD, no person may install a movable flap track fairing No. 3 on that airplane, unless it has been modified or repaired in accordance with the requirements of this AD.

FAA AD Differences

Note 1: This AD differs from the MCAI and/or service information as follows: No Differences.

Other FAA AD Provisions

(g) The following provisions also apply to this AD:

(1) Alternative Methods of Compliance (AMOCs): The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1320. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2008-0153, dated August 8, 2008; and Airbus Mandatory Service Bulletins A330-57-3095, Revision 02, and A340-57-4103, Revision 01, both dated April 3, 2008; for related information.

Issued in Renton, Washington, on March 30, 2009.
Stephen P. Boyd,
Acting Manager, Transport Airplane Directorate, Aircraft Certification Service.

[FR Doc. E9-7642 Filed 4-3-09; 8:45 am]

BILLING CODE 4910-13-P